GENERAL SERVICES ADMINISTRATION

[OMB Control No. 3090-0252]

Submission for OMB Review and Public Comments; Comment Entitled Preparation, Submission, and Negotiation of Subcontracting Plans

AGENCY: Office of Acquisition Policy, GSA.

ACTION: Notice of request for an extension to an existing OMB clearance (3090-0252).

SUMMARY: Under the provisions of the Paperwork Reduction Act of 1995 (44 U.S.C. Chapter 35), the General Services Administration, Office of Acquisition Policy has submitted to the Office of Management and Budget (OMB) a request to review and approve an extension of a currently approved information collection requirement concerning the Preparation, Submission, and Negotiation of Subcontracting Plans. A request for public comments was published at 67 FR 11701, March 15, 2002. No comments were received. This information collection will ensure that small and small disadvantaged business concerns are afforded the maximum practicable opportunity to participate as subcontractors in construction, repair, and alteration or lease contracts. Preparation, Submission, and Negotiation of Subcontracting Plans requires all negotiated solicitations having an anticipated award value over $500,000 ($1,000,000 for construction), submission of a subcontracting plan with other than small business concerns when a negotiated acquisition meets all four of the following conditions:

When the contracting officer anticipates receiving individual subcontracting plans (not commercial plans);

When the award is based on trade-offs among cost or price and technical and/or management factors under FAR 15.101-1;

The acquisition is not a commercial item acquisition, and

The acquisition offers more than minimal subcontracting opportunities.

Public comments are particularly invited on: Whether the information collection generated by the GSAR Clause, Preparation, Submission, and Negotiation of Subcontracting Plans is necessary for small business/subcontracting plans; whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

DATES: Comment Due Date: July 10, 2002.

FOR FURTHER INFORMATION CONTACT: Rhonda Cundiff, Office of Acquisition Policy (202) 501-0044.

ADDRESSES: Submit comments regarding this burden estimate or any other aspect of this collection of information, including suggestions for reducing this burden to Ms. Jeanette Thornton, GSA Desk Officer, OMB, Room 10236, NEOB, Washington, DC 20503, and a copy to Ms. Stephanie Morris, General Services Administration (MVP). Room 4035, 1800 F Street, NW., Washington, DC 20405.

SUPPLEMENTARY INFORMATION:

A. Purpose

The General Services Administration is requesting that the Office of Management and Budget (OMB) renew information collection, 3090-0252, concerning the Preparation, Submission, and Negotiation of Subcontracting Plans. This provision requires a contractor (except other than small business concerns) to submit a subcontracting plan when a negotiated acquisition including construction, repair, and alternations and lease contracts (except those solicitations using simplified procedures) meets all four of the following conditions:

When the contracting officer anticipates receiving individual subcontracting plans (not commercial plans), when award is based on trade-offs among cost or price and technical and/or management factors under FAR 15.101-1, the acquisition is not a commercial item acquisition, and the acquisition offers more than minimal subcontracting opportunities.

B. Annual Reporting Burden

Respondents: 1,020.

Annual responses: 1.

Average hours per response: 12.

Burden hours: 12,240.

Obtaining Copies of Proposals

Requester may obtain a copy of the proposal from the General Services Administration, Regulatory Secretariat (MVP), 1800 F Street, NW., Room 4035, Washington, DC 20405, telephone (202) 208-7312. Please cite OMB Control No. 3090-0252, Preparation, Submission, and Negotiation of Subcontracting Plans.

Dated: May 31, 2002.
Al Matera,
Director, Acquisition Policy Division.

[FR Doc. 02-14510 Filed 6-7-02; 8:45 am]

BILLING CODE 6820-BR-M